DEPARTMENT OF THE INTERIOR

Fish and Wildlife Service

Notice of Intent To Prepare a Comprehensive Conservation Plan and Environmental Assessment for the Rappahannock River Valley National Wildlife Refuge

AGENCY: Fish and Wildlife Service, Department of the Interior.

ACTION: Notice of intent.

SUMMARY: The U.S. Fish and Wildlife Service is preparing a Comprehensive Conservation Plan (CCP) and Environmental Assessment (EA) for the Rappahannock River Valley National Wildlife Refuge (NWR). This notice advises the public that the U.S. Fish and Wildlife Service (Service) intends to gather information necessary for preparing the CCP and EA pursuant to the National Wildlife Refuge System Administration Act of 1966, as amended by the National Wildlife Refuge System Improvement Act of 1997, and the National Environmental Policy Act of 1969. The Service is furnishing this notice in compliance with Service planning policy, to (1) advise other Federal and State agencies and the public of our intention to conduct detailed planning on this refuge; and, (2) obtain suggestions and information on the scope of issues to include in the environmental document.

The Service will involve the public through open houses, informational and technical meetings, and written comments. Special mailings, newspaper articles, and announcements will provide information about opportunities for public involvement in the planning process.

DATES: We are now planning public scoping meetings for December 2005 in Warsaw, Port Royal and Richmond, Virginia. We will announce their locations, dates and times at least 2 weeks in advance, in special mailings and newspaper notices and through personal contacts.

ADDRESSES: Rappahannock River Valley NWR, 336 Wilna Road, P.O. Box 1030, Warsaw, Virginia 22572-1030, at 804-333-1470 (telephone); 804-333-3396 (FAX), Web site http://www.fws.gov/northeast/va/rap.htm.

To Obtain Further Information, Ask Questions, or Comment Contact: Nancy McGarigal, Refuge Planner, U.S. Fish and Wildlife Service, 300 Westgate Center Drive, Hadley, Massachusetts 01035; 413-253-8562 (telephone); 413-253-8468 (FAX); northeastplanning@fws.gov (electronic mail).

SUPPLEMENTARY INFORMATION: Under the National Wildlife Refuge System Administration Act of 1966, as amended by the National Wildlife Refuge System Improvement Act of 1997 (16 U.S.C. 668dd-668ee), the Service is to manage all lands in the National Wildlife Refuge System in accordance with an approved comprehensive conservation plan. The plan guides management decisions and identifies refuge goals, long-range objectives, and strategies for achieving refuge purposes over a 15-year period.

The planning process will cover many elements, including wildlife and habitat management, visitor and recreational activities, cultural resource protection, and facilities and infrastructure. Compatibility determinations will be completed for all applicable refuge uses. We will also conduct a wilderness review and a wild and scenic rivers evaluation to determine whether any areas on the refuge qualify for those Federal designations.

Public input into the planning process is essential. The comments we receive will help identify key issues and develop refuge goals and objectives for managing refuge resources and visitors. Additional opportunities for public participation will arise throughout the planning process, which we expect to complete in 2007. Data collection has already begun to compile up-to-date information on refuge resources and serve as a foundation for science-based resource decisions. We will prepare the environmental assessment in accordance with the Council on Environmental Quality procedures for implementing the National Environmental Policy Act of 1969 (42 U.S.C. 4321-4370d).

The 7,379-acre Rappahannock River Valley NWR was established in 1996 to conserve and protect fish and wildlife resources, including endangered and threatened species and wetlands. Its approved acquisition boundary includes parts of Lancaster, Middlesex, Richmond, Essex, Caroline, Westmoreland, and King George counties in Virginia. The Rappahannock River, a tributary of the Chesapeake Bay, bisects that boundary. Refuge habitats include freshwater tidal marsh, forested swamp, upland deciduous forest, mixed pine forest, and managed grassland.

Refuge visitors engage in wildlife observation and photography, environmental education, hunting, and fishing. The refuge headquarters is located in Warsaw, Virginia.

Dated: October 5, 2005.
Richard O. Bennett,
Acting Regional Director, U.S. Fish and Wildlife Service, Hadley, Massachusetts.

[FR Doc. 05-21693 Filed 10-31-05; 8:45 am]

BILLING CODE 4310-55-P